FEDERAL ELECTION COMMISSION

Sunshine Act Notices

AGENCY: Federal Election Commission.

DATE & TIME: Thursday, February 8, 2007 at 10 a.m.

PLACE: 999 E Street, NW., Washington, DC (ninth floor).

STATUS: This meeting will be open to the public.

ITEMS TO BE DISCUSSED:

Correction and Approval of Minutes.

Advisory Opinion 2006-34: Working Assets, Inc., by counsel, Joseph E. Sandler and Frederick K. Lowell.

Advisory Opinion 2006-36: Green Senatorial Campaign Committee, by Dean Myerson, Treasurer.

Advisory Opinion 2006-38: Senator Robert P. Casey, Jr. and the Casey State Committee by counsel, Marc E. Elias and Caroline P. Goodson.

Policy Statement Establishing A Pilot Program for Probable Cause Hearings.

Person to Contact for Information: Mr. Robert Biersack, Press Officer, Telephone: (202) 694-1220.

Mary W. Dove,
Secretary of the Commission.

[FR Doc. 07-525 Filed 2-1-07; 3:39 pm]

BILLING CODE 6715-01-M